DEPARTMENT OF HEALTH AND HUMAN SERVICES

Centers for Disease Control and Prevention

[ATSDR-211]

Vessel Sanitation Program; Notice of Revision and Implementation of the Vessel Sanitation Program Operations Manual

AGENCY: Centers for Disease Control and Prevention, Department of Health and Human Services.

ACTION: Notice.

SUMMARY: This notice announces the revision and implementation of the Vessel Sanitation Program Operations Manual. The manual will become effective on August 1, 2005.

FOR FURTHER INFORMATION CONTACT: David Forney, Chief, Vessel Sanitation Program, Division of Emergency and Environmental Health Services (EEHS), National Center for Environmental Health (NCEH), telephone (770) 488-7333 or e-mail DForney@cdc.gov.

SUPPLEMENTARY INFORMATION:

Purpose and Background

The Vessel Sanitation Program (VSP) is a cooperative activity between the cruise ship industry and the Centers for Disease Control and Prevention (CDC), Public Health Service, U.S. Department of Health and Human Services. The purpose and goals of VSP are to achieve and maintain a level of sanitation that will lower the risk for gastrointestinal diseases and will assist the cruise ship industry in its efforts to provide a healthful environment for passengers and crew.

Comments

In 2003, CDC announced plans to revise the Vessel Sanitation Operations Manual, November 2000. Input and comments requested and received from the cruise ship industry, private sanitation consultants, other Federal agencies, and other interested parties were discussed in detail at a public meeting held in Fort Lauderdale, Florida, on April 27, 2004. On the basis of comments received, VSP staff drafted a third revised manual that was discussed at a public meeting held in Fort Lauderdale on August 23-26, 2004. Input from the cruise ship industry was critical of this document. VSP revised the document and incorporated the comments received from the cruise ship industry, private sanitation consultants, and other interested parties who attended the public meetings or submitted comments in writing. A final draft of the VSP Operations Manual, 2005 was put on the VSP Web site (http://www.cdc.gov/nceh/vsp) and was presented to attendees at the VSP annual public meeting held in Fort Lauderdale on April 26, 2005.

VSP acknowledges the helpful participation and the input of the cruise ship industry, private sanitation consultants, and other interested parties throughout the revision process. Major input for this document was provided by the International Council of Cruise Lines (ICCL), which represents the 16 largest passenger cruise lines that call on major ports in the U.S. and abroad.

Implementation and Transition for the VSP Operations Manual, 2005

The VSP Operations Manual, 2005 will become effective on August 1, 2005. At that time, the VSP Environmental Health Officers will begin using the new manual and inspection report when they conduct their routine operational inspections.

For one year or for two routine inspections, whichever comes first, VSP staff will document deficiencies that indicate noncompliance with the 2005 operations manual. However, no points will be deducted for failure to meet the revised provisions in the 2005 manual. During the phase-in period, these deficiencies will be cited with a star on the inspection report, and no points will be deducted so that corrective actions can be taken.

One example of the new requirements in the 2005 manual is that hand wash sinks with the electronic sensors that cannot be user-adjusted have a maximum water temperature of 52 °C (125 °F). The VSP Operations Manual, 2000 required only a minimum water temperature for the sinks with the sensors. For the first year or for two routine inspections, whichever comes first, inspectors will document water temperatures above the maximum at the handwash sinks with the sensors, but the item will be cited with a star on the inspection report, and no points will be deducted.

Applicability

The VSP Operations Manual is applicable to all passenger cruise vessels that have international itineraries and that call on U.S. Ports.

Availability

Final copies of the VSP Operations Manual, 2005 can be found on the VSP Web site at http://www.cdc.gov/nceh/vsp; by contacting Stephanie Lawrence, Program Management Assistant for the Vessel Sanitation Program, Centers for Disease Control and Prevention (CDC), Mail stop F23, 4770 Buford Highway NE., Atlanta, GA 30341-3274; or by e-mail at SLawrence1@cdc.gov. Requests may also be sent to vsp@cdc.gov.

Dated: June 24, 2005.
Kevin A. Ryan,
Acting Director, Office of Policy, Planning, and Evaluation, National Center for Environmental Health/Agency for Toxic Substances and Disease Registry.

[FR Doc. 05-12806 Filed 6-28-05; 8:45 am]

BILLING CODE 4163-18-P